DEPARTMENT OF THE INTERIOR

National Park Service

Final Supplemental Environmental Impact Statement General Management Plan Amendment for a Visitor Learning Center Great Basin National Park White Pine County, Nevada; Notice of Approval of Record of Decision

Summary: Pursuant to “102(2)(C) of the National Environmental Policy Act of 1969 (Pub. L. 91-190, as amended) and the regulations promulgated by the Council on Environmental Quality (40 CFR 1505.2), the Department of the Interior, National Park Service has prepared and approved a Record of Decision for the Final Supplemental Environmental Impact Statement (SEIS) and General Management Plan Amendment for Great Basin National Park. The no-action period was initiated April 4, 2003, with the U.S. Environmental Protection Agency's Federal Register notification of the filing of the Final SEIS.

Decision: As soon as practical the National Park Service will begin to implement the amended General Management Plan described as the Proposed Action (Alternative 2) contained in the Final SEIS. This alternative was deemed to be the Aenvironmentally preferred” alternative. This course of action and two alternatives were identified and analyzed in the Final and Draft SEIS (the latter was distributed in March-April, 2002). The full range of foreseeable environmental consequences was assessed, and appropriate mitigation measures identified.

Alternatives and Review Comments: The selected action (described as Alternative 2 in the SEIS) modifies the 1993 General Management Plan and allows for constructing a park Visitor Learning Center on a previously disturbed 80 acre site located at the outskirts of the town of Baker, Nevada (rather than on an undisturbed site located within the park approximately 6 miles outside the town of Baker). In addition to a no-action alternative developed to provide a comparative baseline for assessing environmental consequences, a third alternative of not constructing a new Visitor Learning Center and relying on the Lehman Caves Visitor Center as the only orientation facility was also evaluated.

From the initial scoping period in December 1999 through the opportunity to review and comment on the Draft SEIS (ending in June 2002), a total of nine public comment letters were received. Only minor points were raised, and no respondents objected to the proposed amendment. The Final SEIS was released in April 2003; no responses were received during the no-action period. Consultations with interested Tribes, the Environmental Protection Agency, and the state of Nevada resulted in no substantive changes to the proposal.

Copies: Interested parties desiring to review the Record of Decision may obtain a copy by contacting the Superintendent, Great Basin National Park, Baker, Nevada, 89311; or via telephone request at (775) 234-7331.

Dated: May 29, 2003.
Patricia L. Neubacher,
Acting Regional Director, Pacific West Region.

[FR Doc. 03-15979 Filed 6-24-03; 8:45 am]

BILLING CODE 4312-FP-P